DEPARTMENT OF LABOR

Employment and Training Administration

[TA-W-39, 371]

DV & P, Inc., New York, New York; Notice of Termination of Investigation

Pursuant to Section 221 of the Trade Act of 1974, an investigation was initiated on June 4, 2001, in response to a petition filed on behalf of workers at DV & P, Inc., New York, New York.

The workers submitting the petition have requested that the petition be withdrawn. Consequently, further investigation in this case would serve no purpose, and the investigation has been terminated.

Signed in Washington, DC this 7th day of August, 2001.
Linda G. Poole,
Certifying Officer, Division of Trade Adjustment Assistance.

[FR Doc. 01-21319 Filed 8-22-01; 8:45 am]

BILLING CODE 4510-30-M